Proclamation 10254 of September 10, 2021

Patriot Day and National Day of Service and Remembrance, 2021

By the President of the United States of America

A Proclamation

Twenty years ago, the United States endured one of the most unconscionable tragedies in our country's history. The cowardly terrorist attacks on the World Trade Center, the Pentagon, and onboard United Flight 93 cut short the lives of 2,977 innocent people. These attacks tore a hole in the heart of our Nation, and the pain of this tragedy still remains. Each year on this somber date, we remember the horror and bravery shown that day, just as we remember how we came together, united in grief and in purpose. Each year, we renew our solemn vow to never forget what happened on September 11, 2001, or those who lost their lives.

On Patriot Day and National Day of Service and Remembrance, we honor every life that was taken too soon. We honor the first responders—firefighters, law enforcement officers, emergency workers, and service members—who answered the call of duty, and the brave civilians who rushed into action to save lives that day. Their courage embodies the American spirit and resilience, and their heroism continues to inspire new generations of Americans.

My mother used to say that “courage lies in every heart, and one day it will be summoned.” It was summoned and shown by those who responded to the events on 9/11. First responders, emergency workers, and civilians ran to where the devastation was the greatest, where death came in an instant but where there were survivors to be found; a determined group of heroes onboard United Flight 93 sacrificed their lives to save the lives of others—in every case, Americans faced the unimaginable with resolve and courage. Today and every day, we draw hope from the strength and selflessness of those who stepped up to serve their fellow man and our Nation on that tragic day.

We also remember the patriotism and valor of our service members who pursued our attackers, delivered justice to Osama bin Laden, and degraded al-Qa'ida. We will keep our sacred obligation to care for our service members and veterans who served in Afghanistan over the last 20 years, as well as their families, caregivers, and survivors.

Over the last two decades the American people have demonstrated that the harder the circumstances, the more resilient and stronger we become. Our shared love of country and our shared values—regardless of race, gender, religion, origin, or economic status—unite us as Americans against all enemies, foreign and domestic.

Today, on this Patriot Day and National Day of Service and Remembrance, we move forward as one Nation, united by our common goal of liberty and justice for all. We remember those killed on September 11, 2001, and honor them through acts of service. I encourage all Americans to visit americorps.gov/911-day to learn about and seek opportunities to serve others on this day and to demonstrate once again that the ideals we hold, which many have tried to attack and destroy, are the very bonds that hold us together—even tighter in times of peril.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, JOSEPH R. BIDEN JR., President of the United States of America, do hereby proclaim September 11, 2021, as Patriot Day and National Day of Service and Remembrance. I call upon all departments, agencies, and instrumentalities of the United States to display the flag of the United States at half-staff on Patriot Day and National Day of Service and Remembrance in honor of the individuals who lost their lives on September 11, 2001. I invite the Governors of the United States and its Territories and interested organizations and individuals to join in this observance. I call upon the people of the United States to participate in community service in honor of those our Nation lost, to observe this day with appropriate ceremonies and activities, including remembrance services, and to observe a moment of silence beginning at 8:46 a.m. eastern daylight time to honor the innocent victims who perished as a result of the terrorist attacks on September 11, 2001.

IN WITNESS WHEREOF, I have hereunto set my hand this tenth day of September, in the year of our Lord two thousand twenty-one, and of the Independence of the United States of America the two hundred and forty-sixth.

[FR Doc. 2021-20036

Filed 9-14-21; 8:45 am]

Billing code 3295-F1-P